DEPARTMENT OF COMMERCE

National Oceanic and Atmospheric Administration

[I.D. 040607C]

Endangered Species; File No. 1604

AGENCY: National Marine Fisheries Service (NMFS), National Oceanic and Atmospheric Administration (NOAA), Commerce.

ACTION: Notice; application for permit.

SUMMARY: Notice is hereby given that the U.S. Fish and Wildlife Service (Dr. Chester Figiel, Principal Investigator), 5308 Spring Street, Warm Springs, GA 31830, has applied in due form for a permit to take shortnose sturgeon (Acipenser brevirostrum) for purposes of enhancement and scientific research.

DATES: Written, telefaxed, or e-mail comments must be received on or before May 14, 2007.

ADDRESSES: The application and related documents are available for review upon written request or by appointment in the following offices:

Permits, Conservation and Education Division, Office of Protected Resources, NMFS, 1315 East-West Highway, Room 13705, Silver Spring, MD 20910; phone (301)713-2289; fax (301)427-2521; and

Southeast Region, NMFS, 263 13th Avenue South, St. Petersburg, FL 33701; phone (727)824-5312; fax (727)824-5309.

Written comments or requests for a public hearing on this application should be mailed to the Chief, Permits, Conservation and Education Division, F/PR1, Office of Protected Resources, NMFS, 1315 East-West Highway, Room 13705, Silver Spring, MD 20910. Those individuals requesting a hearing should set forth the specific reasons why a hearing on this particular request would be appropriate.

Comments may also be submitted by facsimile at (301)427-2521, provided the facsimile is confirmed by hard copy submitted by mail and postmarked no later than the closing date of the comment period.

Comments may also be submitted by e-mail. The mailbox address for providing email comments is NMFS.Pr1Comments@noaa.gov. Include in the subject line of the e-mail comment the following document identifier: File No. 1604.

FOR FURTHER INFORMATION CONTACT: Malcolm Mohead or Jennifer Skidmore, (301)713-2289.

SUPPLEMENTARY INFORMATION: The subject permit is requested under the authority of the Endangered Species Act of 1973, as amended (ESA; 16 U.S.C. 1531 et seq.) and the regulations governing the taking, importing, and exporting of endangered and threatened species (50 CFR 222-226).

The proposed action would be issuance of an enhancement and scientific research permit (File No. 1604) to the FWS (Dr. Chester Figiel, Principal Investigator), pursuant to the ESA. The primary objective would be to utilize the available captive brood stock population to provide information needed for implementation of recovery efforts, as described in the “Final Recovery Plan for the Shortnose Sturgeon (Acipenser brevirostrum)” (NMFS, 1998). Captive fish would be maintained, conditioned, spawned and the gametes and progeny used for scientific studies, such as cryo-preservation, genetics, culture techniques, behavioral studies, nutrition, and tagging techniques. An additional study characterizing the wild genetic strains of sturgeon in rivers of the Southeast Atlantic coast would be accomplished using tissue samples archived at the NOAA/NOS Laboratory in Charleston, South Carolina. The permit is requested for five years.

Dated: April 6, 2007.
P. Michael Payne,
Chief, Permits, Conservation and Education Division, Office of Protected Resources, National Marine Fisheries Service.

[FR Doc. E7-6970 Filed 4-12-07; 8:45 am]

BILLING CODE 3510-22-S